POSTAL SERVICE

Board of Governors; Sunshine Act Meeting

Date and Time: Monday, May 4, 2009, at 6 p.m.; Tuesday, May 5, 2009, at 10 a.m.; Wednesday, May 6, 2009, at 8:30 a.m.

Place: Washington, DC, at U.S. Postal Service Headquarters, 475 L'Enfant Plaza, SW., in the Benjamin Franklin Room.

Status: May 4 at 6 p.m.—Closed; May 5 at 10 a.m.—Closed; May 6 at 8:30 a.m.—Open.

Matters To Be Considered

Monday, May 4 at 6 p.m. (Closed)

1. Financial Matters.

2. Strategic Issues.

3. Pricing.

4. Personnel Matters and Compensation Issues.

5. Governors' Executive Session—Discussion of prior agenda items and Board Governance.

Tuesday, May 5 at 10 a.m. (Closed)

1. Continuation of Monday's closed session agenda.

Wednesday, May 6 at 8:30 a.m. (Open)

1. Call to Order and Approval of Minutes of Previous Meetings.

2. Remarks of the Chairman of the Board.

3. Recognition of Former Board Chairman.

4. Remarks of the Postmaster General and CEO.

5. Committee Assignments and Committee Reports.

6. Quarterly Report on Service Performance.

7. Quarterly Report on Financial Performance.

8. Tentative Agenda for the June 22, 23 and 24, 2009, meeting in Washington, DC, and Adjourn.

Contact Person for More Information: Julie S. Moore, Secretary of the Board, U.S. Postal Service, 475 L'Enfant Plaza, SW., Washington, DC 20260-1000. Telephone (202) 268-4800.

Julie S. Moore,
Secretary.

[FR Doc. E9-9595 Filed 4-23-09; 4:15 pm]

BILLING CODE 7710-12-P